FEDERAL COMMUNICATIONS COMMISSION

47 CFR Parts 27 and 74

[GN Docket No. 12-268; FCC 14-50]

Expanding the Economic and Innovation Opportunities of Spectrum Through Incentive Auctions

AGENCY: Federal Communications Commission.

ACTION: Final rule; announcement of effective date.

SUMMARY: In this document, the Federal Communications Commission (Commission) announces that the Office of Management and Budget (OMB) has approved, for a period of three years, certain information collection requirements associated with the Commission's Expanding the Economic and Innovation Opportunities of Spectrum Through Incentive Auctions Report and Order (Incentive Auction Report and Order), FCC 14-50. This document is consistent with the Incentive Auction Report and Order, which stated that the Commission would publish a document in the Federal Register announcing OMB approval and the effective date of to the new information collection requirements.

DATES: The amendments to 47 CFR 27.14(k), 27.14(t)(6), 27.17(c), 27.19(b), 27.19(c), 74.602(h)(5)(ii), and 74.602(h)(5)(iii), published at 79 FR 48442, August 15, 2014, are effective on September 17, 2015.

FOR FURTHER INFORMATION CONTACT: Cathy Williams by email at Cathy.Williams@fcc.gov and telephone at (202) 418-2918.

SUPPLEMENTARY INFORMATION: This document announces that, on August 27, 2015, OMB approved certain information collection requirements contained in the Commission's Incentive Auction Report and Order, FCC 14-50, published at 79 FR 48442, August 15, 2014. The OMB Control Number is 3060-1180. The Commission publishes this document as an announcement of the effective date of these information collection requirements.

Synopsis

As required by the Paperwork Reduction Act of 1995 (44 U.S.C. 3507), the FCC is notifying the public that it received OMB approval on August 27, 2015, for the new information collection requirements contained in the Commission's rules at 47 CFR 27.14(k), 27.14(t)(6), 27.17(c), 27.19(b), 27.19(c), 74.602(h)(5)(ii), 74.602(h)(5)(iii). Under 5 CFR part 1320, an agency may not conduct or sponsor a collection of information unless it displays a current, valid OMB Control Number. No person shall be subject to any penalty for failing to comply with a collection of information subject to the Paperwork Reduction Act that does not display a current, valid OMB Control Number. The OMB Control Number is 3060-1180.

The foregoing notice is required by the Paperwork Reduction Act of 1995, Public Law 104-13, October 1, 1995, and 44 U.S.C. 3507.

The total annual reporting burdens and costs for the respondents are as follows:

OMB Control Number: 3060-1180.

OMB Approval Date: August 27, 2015.

OMB Expiration Date: August 31, 2018.

Title: Expanding the Economic and Innovation Opportunities of Spectrum Through Incentive Auctions.

Form Number: N/A.

Respondents: Business or other for-profit entities, state, local, or tribal government and not for profit institutions.

Number of Respondents and Responses: 378 respondents and 378 responses.

Estimated Time per Response: .5 hours-2 hours.

Frequency of Response: One-time and on occasion reporting requirements, twice within 12 years reporting requirement, 6, 10 and 12-years reporting requirements and third party disclosure requirement.

Obligation to Respond: Required to obtain or retain benefits. Statutory authority for these collections are contained in 47 U.S.C. 151, 154, 301, 303, 307, 308, 309, 310, 316, 319, 325(b), 332, 336(f), 338, 339, 340, 399b, 403, 534, 535, 1404, 1452, and 1454 of the Communications Act of 1934.

Total Annual Burden: 581 hours.

Total Annual Cost: No cost.

Privacy Impact Assessment: No impact(s).

Nature and Extent of Confidentiality: There is no need for confidentiality with this collection of information.

Needs and Uses: The FCC adopted the Expanding the Economic and Innovation Opportunities of Spectrum Through Incentive Auctions Report and Order, FCC 14-50, on May 15, 2014, published at 79 FR 48442 (Aug. 15, 2014). The Commission sought approval from the Office of Management and Budget (OMB) for some of the information collection requirements contained in FCC 14-50. The Commission will use the information to ensure compliance with required filings of notifications, certifications, license renewals, license cancelations, and license modifications. Also, such information will be used to minimize interference and to determine compliance with Commission's rules.

The following is a description of the information collection requirements for which the Commission sought OMB approval:

Section 27.14(k) requires 600 MHz licensees to demonstrate compliance with performance requirements by filing a construction notification with the Commission, within 15 days of the applicable benchmark.

Section 27.14(t)(6) requires 600 MHz licensees to make a renewal showing as a condition of each renewal. The showing must include a detailed description of the applicant's provision of service during the entire license period and address: (i) The level and quality of service provided by the applicant (including the population served, the area served, the number of subscribers, the services offered); (ii) the date service commenced, whether service was ever interrupted, and the duration of any interruption or outage; (iii) the extent to which service is provided to rural areas; (iv) the extent to which service is provided to qualifying tribal land as defined in 47 CFR 1.2110(f)(3)(i); and (v) any other factors associated with the level of service to the public.

Section 27.17(c) requires 600 MHz licensees to notify the Commission within 10 days of discontinuance if they permanently discontinue service by filing FCC Form 601 or 605 and requesting license cancellation.

Section 27.19(b) requires 600 MHz licensees with base and fixed stations in the 600 MHz downlink band within 25 kilometers of Very Long Baseline Array (VLBA) observatories to coordinate with the National Science Foundation (NSF) prior to commencing operations.

Section 27.19(c) requires 600 MHz licensees that intend to operate base and fixed stations in the 600 MHz downlink band in locations near the Radio Astronomy Observatory site located in Green Bank, Pocahontas County, West Virginia, or near the Arecibo Observatory in Puerto Rico, to comply with the provisions in 47 CFR 1.924.

Section 74.602(h)(5)(ii) requires 600 MHz licensees to notify the licensee of a studio-transmitter link (TV STL), TV relay station, or TV translator relay station of their intent to commence wireless operations and the likelihood of harmful interference from the TV STL, TV relay station, or TV translator relay station to those operations within the wireless licensee's licensed geographic service area. The notification is to be in the form of a letter, via certified mail, return receipt requested and must be sent not less than 30 days in advance of approximate date of commencement of operations.

Section 74.602(h)(5)(iii) requires all TV STL, TV relay station and TV translator relay station licensees to modify or cancel their authorizations and vacate the 600 MHz band no later than the end of the post-auction transition period as defined in 47 CFR 27.4.

These rules which contain information collection requirements are designed to provide for flexible use of this spectrum by allowing licensees to choose their type of service offerings, to encourage innovation and investment in mobile broadband use in this spectrum, and to provide a stable regulatory environment in which broadband deployment would be able to develop through the application of standard terrestrial wireless rules. Without this information, the Commission would not be able to carry out its statutory responsibilities.

Federal Communications Commission.
Marlene H. Dortch,
Secretary.

[FR Doc. 2015-22595 Filed 9-16-15; 8:45 am]

BILLING CODE 6712-01-P